DEPARTMENT OF COMMERCE

National Oceanic and Atmospheric Administration

RIN 0648-XC016

Marine Fisheries Advisory Committee Meeting

AGENCY: National Marine Fisheries Service (NMFS), National Oceanic and Atmospheric Administration (NOAA), Commerce.

ACTION: Notice of open public meeting.

SUMMARY: This notice sets forth the schedule and proposed agenda of a forthcoming meeting of the Marine Fisheries Advisory Committee (MAFAC). The members will discuss and provide advice on issues outlined under SUPPLEMENTARY INFORMATION below.

DATES: The meeting will be held May 22-24, 2012, from 8 a.m. to 5 p.m.

ADDRESSES: The meeting will be held at the Sheraton Seattle Hotel, 1400 Sixth Avenue, Seattle, WA 98101; 206-447-5564.

FOR FURTHER INFORMATION CONTACT: Mark Holliday, MAFAC Executive Director; (301) 427-8004; email: Mark.Holliday@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This agenda is subject to change.

The meeting is convened to hear presentations and discuss policies and guidance on the following topics: NMFS budget and legislative issues, aquaculture policy implementation and the Washington State aquaculture initiative, National Standard 1 advanced notice of proposed rulemaking, fisheries certification and sustainability, working waterfronts, revisions to MAFAC's Vision 2020 report, and current protected resources issues. Updates will be presented on Gulf of Mexico restoration activities, National Ocean Policy, recreational fisheries initiatives, and outlooks for 2012 regulatory and science activities. The meeting will include discussion of various MAFAC administrative and organizational matters and meetings of the standing subcommittees.

Special Accommodations

These meetings are physically accessible to people with disabilities. Requests for sign language interpretation or other auxiliary aids should be directed to Mark Holliday, MAFAC Executive Director; 301-427-8004 by May 16, 2012.

Dated: May 1, 2012.
Paul Doremus,
Deputy Assistant Administrator for Operations, National Marine Fisheries Service.

[FR Doc. 2012-10963 Filed 5-4-12; 8:45 am]

BILLING CODE 3510-22-P